ENVIRONMENTAL PROTECTION AGENCY

[FRL-8730-9]

Proposed Agreement and Covenant Not To Sue for 2800 South Sacramento Superfund Site (a/k/a “Celotex Site”), Chicago, IL

AGENCY: Environmental Protection Agency (“EPA”).

ACTION: Notice of proposed agreement; request for public comment.

SUMMARY: Notice is hereby given that a proposed Agreement and Covenant Not to Sue (Prospective Purchaser Agreement) acquisition of the 2800 Sacramento Superfund Site (the “Celotex Site”) by the City of Chicago and the Chicago Park District (“City Parties”) has been negotiated by the United States Environmental Protection Agency (“EPA”) and the City Parties subject to the final review and approval of the EPA and the U.S. Department of Justice. The proposed Prospective Purchaser Agreement relates to the City Parties' plan to take ownership of the land and build a park at the Celotex Site. The City Parties are not Potentially Responsible Parties at the Site. Pursuant to the Prospective Purchaser Agreement, the City Parties will develop the property as a public park utilizing certain sustainable development practices, in exchange for a covenant by EPA not to sue the City Parties regarding the Existing Contamination at the Site pursuant to the Comprehensive Environmental Response Compensation, and Liability Act of 1980, as amended, 42 U.S.C. 9601 et seq. (“CERCLA”).

DATES: EPA will receive written comments by November 20, 2008 relating to the above referenced Prospective Purchaser Agreement. EPA will consider all comments received and will only sign the Prospective Purchaser Agreement after the public comment period has ended and after it has considered all comments received.

ADDRESSES: EPA's response to any comments and the proposed Prospective Purchaser Agreement is available for public inspection at the EPA Superfund Record Center, Region 5, 77 West Jackson Boulevard, Chicago, Illinois 60604-3590. Comments and request for copies of the proposed Prospective Purchaser Agreement should be addressed to Karen L. Peaceman, Associate Regional Counsel, EPA Region 5, Mail Code C-14J, 77 West Jackson Boulevard, Chicago, Illinois 60604-3590; E-mail: Peaceman.karen@epa.gov and should reference the 2800 South Sacramento Avenue Superfund Site, Chicago, Illinois. A copy of the proposed Prospective Purchaser Agreement may also be found at http://www.epa.gov/region5/sites/celotex/index.htm.

FOR FURTHER INFORMATION CONTACT: Karen L. Peaceman, Associate Regional Counsel, EPA Region 5, Mail Code C-14J, 77 West Jackson Boulevard, Chicago, Illinois 60604-3590, (312) 353-5751.

Dated: October 10, 2008.
Richard C. Karl,
Director, Superfund Division, Region 5.

[FR Doc. E8-24877 Filed 10-20-08; 8:45 am]

BILLING CODE 6560-50-M